DEPARTMENT OF HEALTH AND HUMAN SERVICES

Centers for Disease Control and Prevention

National One Health Framework To Address Zoonotic Diseases and Advance Public Health Preparedness in the United States: A Framework for One Health Coordination and Collaboration Across Federal Agencies; Availability of Informational Webinars

AGENCY: Centers for Disease Control and Prevention (CDC), Department of Health and Human Services (HHS).

ACTION: General notice.

SUMMARY: The Centers for Disease Control and Prevention (CDC) in the Department of Health and Human Services (HHS) announces the availability of informational webinars related to the draft framework titled “National One Health Framework to Address Zoonotic Diseases and Advance Public Health Preparedness in the United States: A Framework for One Health Coordination and Collaboration across Federal Agencies (NOHF-Zoonoses).”

DATES: CDC will host three informational webinars.

An informational webinar for State, Tribal, Local, and Territorial (STLT) officials only will be held:

• Tuesday, October 3, 2023, 10:00-11:00 a.m. EDT. Please see the SUPPLEMENTARY INFORMATION section for pre-registration information.

Informational Webinars for the general public will be held:

• Thursday, October 12, 2023, 12:00-1:00 p.m. EDT. Please see the SUPPLEMENTARY INFORMATION section for pre-registration information.

• Wednesday, October 18, 2023, 3:00-4:00 p.m. EDT. Please see the SUPPLEMENTARY INFORMATION section for pre-registration information.

Pre-registration is required for all webinars. Persons interested in participating in the webinars must pre-register no later than one hour prior to the start of the webinar.

FOR FURTHER INFORMATION CONTACT: Natalie Wendling or Dominic Cristiano, One Health Office, Centers for Disease Control and Prevention, 1600 Clifton Road NE, Mailstop H16-5, Atlanta, Georgia 30329. Telephone: 404-639-8950. Email: onehealth@cdc.gov.

SUPPLEMENTARY INFORMATION: CDC has partnered with the U.S. Department of the Interior (DOI), the U.S. Department of Agriculture (USDA), and other departments and agencies to develop a One Health framework to address zoonotic diseases and advance public health preparedness. On September 20, 2023, CDC published a notice requesting public comment on the draft NOHF-Zoonoses (88 FR 64913). Public comments are due November 6, 2023 . The Framework can be found at Docket No. CDC-2023-0075 at www.regulations.gov. CDC, DOI, and USDA are offering informational webinars to present the Framework and answer questions. No public comment will be accepted at the webinars.

Pre-Registration Information

Persons interested in participating in the webinars must pre-register at the links below at least one hour prior to the start of the webinar.

October 3, 2023 Webinar

Interested STLT officials are invited to participate by registering with an official government email at the following zoom link: https://cdc.zoomgov.com/webinar/register/WN_xlBalA_aQPKetWfjpgNV6A.

October 12, 2023 Webinar

Interested persons or organizations are invited to participate by registering at the following zoom link: https://cdc.zoomgov.com/webinar/register/WN_cjNw5lJbRumLF1WkfwFF8A.

October 18, 2023 Webinar

Interested persons or organizations are invited to participate by registering at the following zoom link: https://cdc.zoomgov.com/webinar/register/WN_WObcRpTGQGKvC7ISzPCVPQ.

Resources

• Federal One Health Coordination: https://www.cdc.gov/onehealth/what-we-do/federal-coordination.html.

• United States Joint External Evaluation: https://www.who.int/publications/i/item/WHO-WHE-CPI-2017.13.

• United States One Health Zoonotic Disease Prioritization Report: https://www.cdc.gov/onehealth/pdfs/us-ohzdp-report-508.pdf.

Dated: September 20, 2023.
Tiffany Brown,
Executive Secretary, Centers for Disease Control and Prevention.

[FR Doc. 2023-20677 Filed 9-22-23; 8:45 am]

BILLING CODE 4163-18-P